DEPARTMENT OF TRANSPORTATION

Federal Highway Administration

Notice of Final Federal Agency Actions on Proposed Highway in California

AGENCY: Federal Highway Administration (FHWA), DOT.

ACTION: Notice; correction.

SUMMARY: This notice corrects an error in the FHWA notice published on October 10, 2012, at 77 FR 61654. That notice provided an incorrect reference to a statute of limitations timeframe, and an incorrect date.

DATES: This notice is effective November 23, 2012.

FOR FURTHER INFORMATION CONTACT: Manuel E. Sánchez, Senior Transportation Engineer/Border Engineer, Federal Highway Administration—California Division, 401 B Street, Suite 800, San Diego, CA 92101, Regular Office Hours: 6:30 a.m. to 4:00 p.m., Telephone: (619) 699- 7336, Email: manuel.sanchez@dot.gov, or Bruce L. April, Deputy District Director—Environmental, Caltrans District 11, 4050 Taylor Street, MS 242, San Diego, CA 92110, Regular Office Hours: 8:00 a.m. to 5:00 p.m., Telephone: (619) 688-0100, Email: Bruce_April@dot.ca.gov.

SUPPLEMENTARY INFORMATION: On October 10, 2012, at 77 FR 61654, the FHWA published a notice regarding actions taken by the FHWA and other Federal agencies that are final within the meaning of 23 U.S.C. 139(l)(1). The actions relate to the proposed State Route 11 and Otay Mesa East Land Port of Entry project in the City and County of San Diego, State of California.

The original notice indicated that claims seeking judicial review of the Federal agency actions on the highway project will be barred unless the claim is filed on or before April 8, 2013, which represents 180 days after publication in the Federal Register. However, the recently enacted “Moving Ahead for Progress in the 21st Century Act” (MAP-21) (Sec. 1308, Pub. L. 112-141, 126 STAT. 405), amended 23 U.S.C. 139(l)(1) as of October 1, 2012, to provide that any claim seeking judicial review of the Federal agency actions on a highway project is barred unless the claim is filed 150 days after publication of a notice in the Federal Register. As such, any claim seeking judicial review of the above referenced highway project will be barred unless the claim is filed on or before March 9, 2013. Also, if the Federal law that authorizes judicial review of a claim provides a time period of less than 150 days for filing such a claim, then that shorter time period still applies.

Authority: 23 U.S.C. 139(l); Sec. 1308, Pub. L. 112-141, 126 Stat. 405.

Vincent P. Mammano,
Division Administrator, Federal Highway Administration, Sacramento, California.

[FR Doc. 2012-28409 Filed 11-21-12; 8:45 am]

BILLING CODE 4910-22-P